ENVIRONMENTAL PROTECTION AGENCY

40 CFR Part 52

[EPA-R09-OAR-2011-0589; FRL-9726-4]

Approval of Air Quality Implementation Plans; California; San Joaquin Valley; Attainment Plan for the 1997 8-Hour Ozone Standards; Technical Amendments

AGENCY: U.S. Environmental Protection Agency (EPA).

ACTION: Final rule; technical amendments.

SUMMARY: EPA is making a technical amendment to the Code of Federal Regulations (CFR) to reflect the Agency's March 1, 2012 final approval of the California State Implementation Plan for attainment of the 1997 8-hour ozone National Ambient Air Quality Standards in the San Joaquin Valley. This technical amendment corrects the CFR to properly codify the California Air Resources Board's commitment to update the air quality modeling in the San Joaquin Valley 8-Hour Ozone SIP by December 31, 2014.

DATES: This technical amendment is effective on December 14, 2012.

FOR FURTHER INFORMATION CONTACT: Frances Wicher, Air Planning Office (AIR-2), U.S. Environmental Protection Agency, Region 9, (415) 972-3957, wicher.frances@epa.gov.

SUPPLEMENTARY INFORMATION: Throughout this document, “we”, “us” and “our” refer to EPA.

On March 1, 2012, EPA fully approved the California State Implementation Plan (SIP) for attainment of the 1997 8-hour ozone National Ambient Air Quality Standards (NAAQS) in the San Joaquin Valley and included provisions of this SIP in the Code of Federal Regulations (CFR) at 40 CFR 52.220(c). See 77 FR 12652 (March 1, 2012).

The regulatory text for this final action included paragraph (c)(396)(ii)(A)(2)(ii) of 40 CFR 52.220. This paragraph contains CARB's commitment to update the air quality modeling in the San Joaquin Valley 8-Hour Ozone SIP to reflect emissions inventory improvements and any other new information by December 31, 2014 or the date by which state implementation plans are due for the expected revision to the Federal 8-hour ozone standard whichever comes first, as provided on page 3 of CARB Resolution No. 11-22 (dated July 21, 2011). CARB Resolution 11-22 documents CARB's adoption of the 8-Hour Ozone State Implementation Plan Revisions and Technical Revisions to the PM2.5 State Implementation Plan Transportation Conformity Budgets for the South Coast and San Joaquin Valley Air Basins (dated June 20, 2011). However, the amendatory language at the beginning of this regulatory text (77 FR 12672) did not identify this paragraph and as a result this paragraph is not currently in the CFR. We are issuing this technical amendment to 40 CFR 52.220 to correct this oversight. This technical amendment makes no change to the substance of our March 1, 2012 approval of the SJV 8-Hour Ozone SIP.

List of Subjects in 40 CFR Part 52

Environmental protection, Air pollution control, Intergovernmental relations, Nitrogen Dioxide, Ozone, Volatile organic compounds.

Dated: December 4, 2012.
Jared Blumenfeld,
Regional Administrator, Region IX.

Part 52, Chapter I, Title 40 of the Code of Federal Regulations is amended as follows:

PART 52 [AMENDED]

1. The authority citation for part 52 continues to read as follows:

Authority: 42 U.S.C. 7401 et seq.

Subpart F—California

2. Section 52.220 is amended by adding paragraph (c)(396)(ii)(A)(2)(ii) to read as follows:

§ 52.220 Identification of plan.

* * * * *

(c) * * *

(396) * * *

(ii) * * *

(A) * * *

(2) * * *

(ii) Commitment to update the air quality modeling in the SJV 2007 Ozone Plan to reflect the emissions inventory improvements and any other new information by December 31, 2014 or the date by which state implementation plans are due for the expected revision to the Federal 8-hour ozone standard whichever comes first, as provided on page 3.

* * * * *

[FR Doc. 2012-30245 Filed 12-13-12; 8:45 am]

BILLING CODE 6560-50-P